POSTAL SERVICE BOARD OF GOVERNORS

Sunshine Act Meeting; Board Votes To Close February 25, 2009, Meeting

In person and by telephone vote on February 25, 2009, a majority of the members contacted and voting, the Board of Governors of the United States Postal Service voted unanimously to close to public observation its meeting held in Washington, DC via teleconference. The Board determined that no earlier public notice was possible.

Items Considered

1. Financial matters.

2. Strategic issues.

3. Pricing.

4. Personnel matters and compensation issues.

5. Governors' Executive Session—Discussion of prior agenda items and Board Governance.

General Counsel Certification: The General Counsel of the United States Postal Service has certified that the meeting was properly closed under the Government in the Sunshine Act.

Contact Person for More Information: Requests for information about the meeting should be addressed to the Secretary of the Board, Julie S. Moore, at (202) 268-4800.

Julie S. Moore,
Secretary.

[FR Doc. E9-6331 Filed 3-18-09; 4:15 pm]

BILLING CODE 7710-12-P